DEPARTMENT OF AGRICULTURE

Forest Service

Lassen National Forest, Almanor Ranger District, CA, Creeks II Forest Restoration Project

AGENCY: Forest Service, USDA.

ACTION: Notice of intent to prepare an environmental impact statement.

SUMMARY: The Forest Service proposes to address fuels and firefighter safety, forest health issues, and focus on the specific concerns of wildlife habitat and habitat connectivity by developing a network of defensible fuel profile zones (DFPZ's), establish group selection harvest units, and conduct area thinnings on the Almanor Ranger District in the Lassen National Forest. These management activities were developed to implement and be consistent with the Lassen National Forest (LNF) Land and Resource Management Plan (LRMP, 1993), as amended by the Herger-Feinstein Quincy Library Group Forest Recovery Act FEIS, FSEIS, and RODs (1999, 2003), and the Sierra Nevada Forest Plan Amendment FEIS, FSEIS, and RODs (2001, 2004).

DATES: Comments concerning the scope of the analysis should be received in writing within 30 days of the date of publication of this Notice of Intent in the Federal Register. The expected filing date with the Environmental Protection Agency for the draft EIS is October 8, 2008. The expected filing date for the final EIS is February 11, 2009.

ADDRESSES: Comments may be submitted to: Alfred Vazquez, District Ranger, Almanor Ranger District, at P.O. Box 767, Chester, CA 96020 or (530) 258-5194 (fax) during normal business hours. The Almanor Ranger District business hours are from 8 a.m. to 4:30 p.m. Monday through Friday. Electronic comments, in acceptable plain text (.txt), rich text (.rtf), or Word (.doc) formats, may be submitted to: comments-pacificsouthwest-lassenalmanor@fs.fed.us using Subject: Creeks II Forest Restoration Project.

FOR FURTHER INFORMATION CONTACT: Al Vazquez, District Ranger, or John Zarlengo, Interdisciplinary Team Leader, may be contacted by phone at (530) 258-2141 for more information about the proposed action and the environmental impact statement or at the Almanor Ranger District, P.O. Box 767, Chester, CA 96020.

SUPPLEMENTARY INFORMATION:

Background

A proposal to address forest health conditions throughout the Creeks Forest Health Recovery Project (Creeks) area of the Lassen National Forest (LNF) was placed on the LNF Schedule of Proposed Actions in February 2004. The project was sent to the public for scoping in 2004 and the Responsible Official, Forest Supervisor Laurie Tippin, signed the Record of Decision (ROD) for the Creeks Forest Health Recovery Project in September 2005. A lawsuit was filed and in August 2006, the Decision was remanded to Forest Supervisor Tippin. On May 30, 2007, the Forest Supervisor agreed to cancel the original Creeks project. A Cancellation of the Notice of Intent to prepare a Supplement to the Environmental Impact Statement for this project was published in the Federal Register on June 14, 2007. A new project was placed on the LNF Schedule of Proposed Actions on July 1, 2007, and a public meeting to discuss the project was held on February 28, 2008. A new purpose and need statement was developed and a new proposed action was crafted to address the specific concerns of wildlife habitat and habitat connectivity, taking action to improve the overall forest health, and reducing the risk of large, intense wildfires highlighted within the original Creeks analysis area. The new project is known as the Creeks II Forest Restoration Project (Creeks II).

Purpose and Need for Action

Conditions fostered by past fire suppression, a climate favorable for conifer regeneration and growth, and past management activities have contributed to current dense stands conditions in the Creeks II project area. Existing high stand densities in the Creeks II project area place the large tree component of late-seral stands at increased risk of mortality from insects and disease, especially during times of prolonged drought. Dense stand conditions also increase the likelihood that wildfire will move into the forest canopy and result in a high-intensity fire that destroys large areas of forest. The existing habitat considered suitable for both California spotted owl and American marten is composed of densely forested stands and is at increased risk of loss to wildfire.

Modification of the fire regime has also affected the health of the area's aspen communities. In the Sierra Nevada, aspen communities are rare on the landscape, increasing their value in a vastly conifer dominated ecosystem. There is also a need in the Creeks II project area to protect aquatic habitats and their adjacent areas, specifically to recruit large trees, improve vegetative diversity, and reduce ladder fuels in riparian habitat conservation areas (RHCAs).

Proposed Action

Creeks II proposes to utilize site-specific prescriptions to meet the objectives of maintaining and developing long-term sustainable late-seral attributes that provide habitat connectivity and vegetation heterogeneity across the landscape; reducing conifer density to better withstand the rigors of extended periods of low soil moisture; reducing the potential for large, intense wildfire; providing firefighters a safe area from which to attack fire; reducing stand density to lower individual large tree mortality during fires; promoting desired future conditions for vegetation diversity in aspen stands; moving toward desired conditions for water quality by reducing sediment delivery from area roads; and, improving vegetative conditions in RHCAs to protect aquatic habitats and adjacent areas. Work in the project area includes DFPZs (4,092 acres), group selection harvest units (708 acres), aspen enhancement (688 acres), area thinning (3,003 acres), and work in riparian habitat conservation areas (400 acres) to total an estimated 8,891 acres of treatment and would be spread over a 33,000 acre project area. Included in this proposal are the use of National Forest system roads, the use of temporary roads, and the decommissioning of some system and temporary roads. The project would be implemented through a combination of commercial timber sales, service contracts, and agency crews.

Alternatives

Alternatives proposed to date are the Proposed Action as described above and the No Action.

Responsible Official and Mailing Address: Kathleen Morse, Forest Supervisor, 2550 S. Riverside Drive, Susanville, CA 96130 is the responsible official.

Nature of Decision to Be Made: The decision to be made is whether to implement the proposed action as described above, to meet the purpose and need for action through some other combination of activities, or to take no action at this time.

Scoping Process

The environmental analysis will be documented in an environmental impact statement. This notice of intent initiates the scoping process which guides the development of the environmental impact statement. The scoping process will be used to identify issues regarding the proposed action. An issue is defined as a point of dispute, debate, or disagreement related to a specific proposed action based on its anticipated effects. Significant issues brought to our attention are used during an environmental analysis to develop alternatives to the proposed action. Some issues raised in scoping may be considered non-significant because they are: (1) Beyond the scope of the proposed action and its purpose and need; (2) already decided by law, regulation, or the Land and Resource Management Plan; (3) irrelevant to the decision to be made; or (4) conjectural and not supported by scientific or factual evidence.

Reviewer's Obligation to Comment

On December 27, 2007, the Herger-Feinstein Quincy Library Group (HFQLG) Forest Recovery Act was amended by H.R. 2764 to utilize the analysis and appeal process identified under H.R. 1904, known as the Healthy Forests Restoration Act of 2003 (HFRA). Provisions 104-106 of the HFRA apply to HFQLG projects with a fuels reduction component. The Creeks II Forest Restoration Project is authorized under the HFRA and is subject to the use of notice, comment, and objection process as described under 36 CFR 218. The comment period on the draft EIS will be 45 days from the date the Environmental Protection Agency publishes the notice of availability of the draft EIS in the Federal Register. To be eligible to object to an EIS, an individual or organization must submit specific written comments related to a project during the comment period for the draft EIS. A 30-day objection period prior to a decision being made will be provided for this project, rather than an appeal process after decision. Objections will receive administrative review and will be responded to within 30 days and before a decision is made.

The Forest Service believes, at this early stage, it is important to give reviewers notice of several court rulings related to public participation in the environmental review process. First, reviewers of draft statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Jack T. Walton,
Acting Lassen National Forest Supervisor.

[FR Doc. E8-11063 Filed 5-16-08; 8:45 am]

BILLING CODE 3410-11-M